DEPARTMENT OF JUSTICE

Federal Bureau of Investigation

[OMB Number 1110-0011]

Violent Criminal Apprehension Program: Agency Information Collection Activities: Proposed Collection, Comments Requested

ACTION: 30-Day notice of information collection under review: Revision of a currently approved collection due to expire 10/31/2010 Violent Criminal Apprehension Program.

The Department of Justice, Federal Bureau of Investigation, Critical Incident Response Group will be submitting the following information collection request to the Office of Management and Budget (OMB) for review and clearance in accordance with established review procedures of the Paperwork Reduction Act of 1995. The proposed information collection is published to obtain comments from the public and affected agencies. This proposed information collection was previously published in the Federal Register Volume 75, number 118, pages 35087-35088 on June 21, 2010, allowing for a 60-day comment period.

The purpose of this notice is to allow for an additional 30 days for public comment until September 23, 2010. This process is conducted in accordance with 5 CFR 1320.10.

Written comments and/or suggestions regarding the items contained in this notice, especially the estimated public burden and associated response time, should be directed to Lesa Marcolini, Program Manager, Federal Bureau of Investigation, Critical Incident Response Group, ViCAP, FBI Academy, Quantico, Virginia 22135; facsimile (703) 632-4239.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Revision of a currently approved collection.

(2) The title of the form/collection: ViCAP Case Submission Form, FD-676.

(3) The agency form number, if any, and the applicable component of the department sponsoring the collection: Forms 676; Critical Incident Response Group, Federal Bureau of Investigation, Department of Justice.

(4) Affected public who will be asked or required to respond, as well as a brief abstract: Primary: State and local government law enforcement agencies charged with the responsibility of investigating violent crimes.

Established by the Department of Justice in 1985, ViCAP serves as the national repository for violent crimes; specifically:

Homicides and attempted homicides, especially those that (a) involve an abduction, (b) are apparently random, motiveless, or sexually oriented, or (c) are known or suspected to be part of a series.

Sexual assaults, especially those that (a) were committed by a stranger or (b) are known or suspected to be part of a series.

Missing persons, where the circumstances indicate a strong possibility of foul play and the victim is still missing.

Unidentified human remains, where the manner of death is known or suspected to be homicide.

Comprehensive case information submitted to ViCAP is maintained in the ViCAP Web National Crime Database and is automatically compared to all other cases in the database to identify similarities.

(5) An estimate of the total number of respondents and the amount of time estimated for an average respondent to respond: Of the approximately 17,000 government entities that are eligible to submit cases, it is estimated that forty to sixty percent will actually submit cases to ViCAP. The time burden of the respondents is less than 60 minutes per form.

(6) An estimate of the total public burden (in hours) associated with this collection: There are approximately 10,000 hours, annual burden, associated with this information collection.

If additional information is required contact: Ms. Lynn Bryant, Department Clearance Officer, Policy and Planning Staff, Justice Management Division, United States Department of Justice, Two Constitution Square, 145 N Street, NE., Suite 2E-502, Washington, DC 20530.

Dated: August 18, 2010.
Lynn Bryant,
Department Clearance Officer, United States Department of Justice.

[FR Doc. 2010-20988 Filed 8-23-10; 8:45 am]

BILLING CODE 4410-02-P